DEPARTMENT OF HOMELAND SECURITY

Coast Guard

[Docket No. USCG-2024-0884]

Great Lakes Pilotage Advisory Committee; Vacancies

AGENCY: Coast Guard, Department of Homeland Security.

ACTION: Notice; request for applications.

SUMMARY: The U.S. Coast Guard is accepting applications to fill two vacancies on the Great Lakes Pilotage Advisory Committee (Committee). The Great Lakes Pilotage Advisory Committee provides advice and makes recommendations to the Secretary of Homeland Security via the Commandant of the U.S. Coast Guard on matters relating to Great Lakes pilotage, including review of proposed Great Lakes pilotage regulations and policies.

DATES: Complete applications must reach the U.S. Coast Guard on or before December 23, 2024.

ADDRESSES: Applications must include (a) a cover letter expressing a letter of support from the nominating group, a cover letter expressing the nominees' interest in an appointment to the Committee and detailing their qualifications to serve as a representative of the groups and/or viewpoints identified in the two open positions, (b) a resume detailing the applicant's relevant experience for the position applied for, and (c) a brief 2-3 paragraph biography written in third person perspective. Applications should be submitted via email with the subject line “Application for GLPAC” to Mr. Francis Levesque at francis.r.levesque@uscg.mil.

FOR FURTHER INFORMATION CONTACT: Mr. Frank Levesque, Alternate Designated Federal Officer of the Great Lakes Pilotage Advisory Committee; telephone 571-308-4941 or email at francis.r.levesque@uscg.mil.

SUPPLEMENTARY INFORMATION: The Great Lakes Pilotage Advisory Committee is a Federal advisory committee. The Great Lakes Pilotage Advisory Committee operates under the authority of 46 U.S.C. 9307 and makes recommendations to the Secretary and the U.S. Coast Guard on matters relating to the Great Lakes. The Committee operates under the provisions of the Federal Advisory Committee Act (Pub. L. 117-286, 5 U.S.C. ch. 10).

Meetings of the Great Lakes Pilotage Advisory Committee will be held with the approval of the Designated Federal Officer. The Committee is required to meet at least once per year. Additional meetings may be held at the request of a majority of the Committee or at the discretion of the Designated Federal Officer.

For these vacancies, member serves a term of office of up to 4 years. Members may serve a maximum of six consecutive years. All members serve at their own expense and receive no salary or other compensation from the Federal Government. The only compensation the members may receive is for travel expenses, including per diem in lieu of subsistence, and actual reasonable expenses incurred in the performance of their direct duties for the Committee in accordance with Federal Travel Regulations.

We will consider nominations for the following positions:

1. One member chosen from among nominations made by vessel operators that contract for Great Lakes Pilotage Services;

2. One member chosen from among nominations made by shippers whose cargoes are transported through Great Lakes ports.

To be eligible, applicants who are nominated should have particular expertise, knowledge, and experience regarding the regulations and policies on the pilotage vessels on the Great Lakes, and at least five years of practical experience in maritime operations.

The members who fill the two positions described above will be appointed to represent the interest of their respective groups and viewpoints and are not Special Government Employees as defined in 18 U.S.C. 202(a). As representatives, the members are expected to represent and speak on behalf of interests, views, or biases of a recognizable group of persons or class of stakeholders.

If you are appointed as a member of the Committee, you will be required to sign a Non-Disclosure Agreement and a Gratuitous Service Agreement.

In order for the Department to fully leverage broad-ranging experience and education, the Great Lakes Pilotage Advisory Committee must be diverse with regard to the stakeholders represented. The Department is committed to pursuing opportunities, consistent with applicable law, to compose a committee that reflects the diversity of the Nation's people.

If you are interested in applying to become a member of the Committee, email your application to francis.r.levesque@uscg.mil as provided in the ADDRESSES section of this notice.

The U.S. Coast Guard will not consider incomplete or late applications.

Privacy Act Statement

Purpose: To obtain qualified applicants to fill two vacancies on the Great Lakes Pilotage Advisory Committee. When you apply for appointment to the DHS' Great Lakes Pilotage Advisory Committee, DHS collects your name, contact information, and any other personal information that you submit in conjunction with your application. DHS will use this information to evaluate your candidacy for Committee membership. If you are chosen to serve as a Committee member, your name will appear in publicly available Committee documents, membership lists, and Committee reports.

Authorities: 14 U.S.C. 504; 46 U.S.C. 9307; 18 U.S.C. 202(a), and Department of Homeland Security Delegation No. 00915.

Routine Uses: Authorized U.S. Coast Guard personnel will use this information to consider and obtain qualified candidates to serve on the Committee. Any external disclosures of information within this record will be made in accordance with DHS/ALL-009, Department of Homeland Security Advisory Committee (73 FR 57642, October 3, 2008).

Consequences of Failure to Provide Information: Furnishing this information is voluntary. However, failure to furnish the requested information may result in your application not being considered for the Committee.

Dated: October 17, 2024.
Michael D. Emerson,
Director, Marine Transportation Systems, U.S. Coast Guard Headquarters.

[FR Doc. 2024-24431 Filed 10-21-24; 8:45 am]

BILLING CODE 9110-04-P